FEDERAL MARITIME COMMISSION

[Petition P2-00]

Petition of China National Foreign Trade Transportation (Group) Corp. (SINOTRANS) for Exemption From Section 9(c) of the Shipping Act of 1984; Notice of Filing

Notice is hereby given that China National Foreign Trade Transportation (Group) Corp. (SINOTRANS) (“Petitioner”) has petitioned, pursuant to Section 16 of the Shipping Act of 1984, 46 U.S.C. app. Section 1715, for a limited exemption from the tariff publishing requirements of Section 9 of the 1984 Act, 46 U.S.C. app Section 1708(c). Petitioner seeks an exemption so that it can lawfully reduce rates to meet or exceed the published rates of competing ocean common carriers on one day's notice.

In order for the Commission to make a thorough evaluation of the petition for exemption, interested persons are requested to submit views or arguments in reply to the petition no later than 14 days following publication of this notice in the Federal Register. Replies shall consist of an original and 15 copies, be directed to the Secretary, Federal Maritime Commission, 800 North Capitol Street, N.W., Washington, D.C. 20573-0001, and be served on Petitioner's counsel; David P. Street, Galland, Kharasch, Greenberg, Fellman & Swirsky, P.C.,1054 Thirty-First Street, N.W., Washington, D.C. 20007-4492. It is also requested that a copy of the reply be submitted in electronic form (WordPerfect, Word or ASCII) on diskette or e-mailed to Secretary@fmc.gov.

Copies of the petition are available at the Office of the Secretary of the Commission, 800 N. Capitol Street, N.W., Room 1046. Parties participating in this proceeding may elect to receive service of the Commission's issuances in this proceeding through e-mail in lieu of service by U.S. mail. A party opting for electronic service shall advise the Office of the Secretary in writing and provide an e-mail address where service can be made.

By the Commission.
Bryant L. VanBrakle,
Secretary.

[FR Doc. 00-27827 Filed 10-27-00; 8:45 am]

BILLING CODE 6730-01-P